MILLENNIUM CHALLENGE CORPORATION

[MCC FR 21-04]

Proposed Agency Information Collection Request; Comment Request; Restricted Data Use Application

AGENCY: Millennium Challenge Corporation.

ACTION: 60-Day notice; request for comments.

SUMMARY: In accordance with the Paperwork Reduction Act of 1995, the Millennium Challenge Corporation (MCC) invites public comment on a new proposed information collection request that the agency will submit to the Office of Management and Budget (OMB) for approval. This document describes the collection of information for which the MCC intends to seek OMB approval. The purpose of this notice is to allow for 60 days of public comment preceding submission of the collection request to OMB.

DATES: Comments are due by June 21, 2021.

ADDRESSES: Please send all written comments by email to James Porter, Chief Information Officer, pra@mcc.gov. Because of the coronavirus pandemic, written comments are not being received by mail or fax.

FOR FURTHER INFORMATION CONTACT: James Porter, Chief Information Officer, MCC, pra@mcc.gov, 202-521-3716.

SUPPLEMENTARY INFORMATION:

Public Comments Invited: You are asked to comment on any aspect of this information collection, including (a) whether the proposed collection of information is necessary for MCC's performance; (b) the accuracy of the estimated burden of the proposed collection; (c) ways for MCC to enhance the quality, utility, and clarity of the information to be collected; and (d) ways that the burden could be minimized without reducing the quality of the collected information.

The agency will summarize and/or include your comments in the request for OMB's clearance of this information collection and your comments will become a matter of public record.

Title of Information Collection: MCC Restricted Data Use Application.

OMB Control Number: Not assigned.

Type of Review: A new information collection.

Respondents/Affected Public: Researchers, including university and college faculty and students, who will use this data for statistical analysis.

Total Estimated Number of Respondents: Approximately 50 new respondents are expected annually to access MCC-funded restricted data.

Frequency: One application for each restricted data package for which access is requested by a respondent.

Estimated Average Burden per Response: 90 minutes.

Estimated Total Annual Burden: 4500 hours total.

Estimated Total Annual Cost to Public: There are no costs to respondents other than their time.

Respondents' Obligation: Voluntary reply.

Abstract: MCC is committed to providing public access to high-value data collected as part of the development, implementation, and evaluation of MCC-funded assistance programs, while being equally committed to protecting the confidentiality of individuals and organizations from which the data are collected. To achieve these twin aims, MCC publishes de-identified public use files of microdata on its website through the MCC Evaluation Catalog. In addition, MCC plans to make restricted data files available in cases where the de-identification efforts for public use files would significantly impair the analytic potential of the data, or where the data contain highly sensitive information that cannot be shared as a public-use file. However, access to restricted data will only be granted to users who meet eligibility criteria and agree to terms of access established by MCC, including agreeing to follow strict requirements for maintaining data confidentiality. The MCC Restricted Data Use Application collects information that will be used by MCC and its data steward, the University of Michigan's Interagency Consortium for Political and Social Research (ICPSR), to evaluate whether respondents qualify for access to MCC's restricted data. The application, which will be submitted electronically, requires the provision of specific information by the respondent, such as (i) the name, contact information, and CV/Resume/Biosketch for each person that will access the restricted data, (ii) a research proposal describing the need for the data and how it will be used, (iii) evidence of Institutional Review Board approval or exemption of the research proposal, and (iv) a signed restricted data use agreement.

(Authority: Paperwork Reduction Act of 1995 (44 U.S.C. Chapter 35)

Dated: April 16, 2021.
Thomas G. Hohenthaner,
Acting VP/General Counsel and Corporate Secretary.

[FR Doc. 2021-08289 Filed 4-21-21; 8:45 am]

BILLING CODE 9211-03-P